DEPARTMENT OF HEALTH AND HUMAN SERVICES

Food and Drug Administration

[Docket No. FDA-2015-N-1805]

Retrospective Review of Premarket Approval Application Devices; Striking the Balance Between Premarket and Postmarket Data Collection; Correction

AGENCY: Food and Drug Administration, HHS.

ACTION: Notice; request for comments; correction.

SUMMARY: The Food and Drug Administration is correcting a notice entitled “Retrospective Review of Premarket Approval Application Devices; Striking the Balance Between Premarket and Postmarket Data Collection” that appeared in the Federal Register of April 29, 2015 (80 FR 23798). The document announced the progress of the Center for Devices and Radiological Health on its 2014-2015 Strategic Priority “Strike the Right Balance Between Premarket and Postmarket Data Collection.” The document was published with the incorrect docket number. This document corrects that error.

FOR FURTHER INFORMATION CONTACT: Lisa Granger, Office of Policy and Planning, Food and Drug Administration, 10903 New Hampshire Ave., Bldg. 32, Rm. 3330, Silver Spring, MD 20993-0002, 301-796-9115.

SUPPLEMENTARY INFORMATION: In the Federal Register of April 29, 2015, in FR Doc. 2015-09884, on page 23798, the following correction is made:

1. On page 23798, in the first column, in the headings section of the document, “[Docket No. FDA-2014-D-0090]” is corrected to read “[Docket No. FDA-2015-N-1805]”.

Dated: May 28, 2015.
Leslie Kux,
Associate Commissioner for Policy.

[FR Doc. 2015-13337 Filed 6-1-15; 8:45 am]

BILLING CODE 4164-01-P